DEFENSE NUCLEAR FACILITIES SAFETY BOARD

Sunshine Act Notice

AGENCY: Defense Nuclear Facilities Safety Board.

ACTION: Notice of public business meeting.

SUMMARY: Pursuant to the provisions of the “Government in the Sunshine Act”, notice is hereby given of the Defense Nuclear Facilities Safety Board's (Board) public business meeting described below.

DATES: 9:00 a.m.-3:00 p.m., September 28, 2017.

ADDRESSES: Defense Nuclear Facilities Safety Board Headquarters, 625 Indiana Avenue NW., Washington, DC 20004-2901.

FOR FURTHER INFORMATION CONTACT: Glenn Sklar, General Manager, Defense Nuclear Facilities Safety Board, 625 Indiana Avenue NW., Suite 700, Washington, DC 20004-2901 (800) 788-4016.

SUPPLEMENTARY INFORMATION:

STATUS: Open.

MATTERS TO BE CONSIDERED: This public business meeting will be conducted pursuant to the Government in the Sunshine Act, the Board's implementing regulations for the Government in the Sunshine Act, and the Board's Operating Procedures. The objective of this public business meeting is for the Board to deliberate and vote on its Fiscal Year (FY) 2018 Strategic Plan and FY 2018 Staffing Plan, as well as the respective FY 2018 Work Plans for the Office of the General Manager, the Office of the General Counsel, and Office of the Technical Director. The meeting will proceed in accordance with the meeting agenda, which is posted on the Board's public Web site at www.dnfsb.gov. The Chairman will provide opening remarks followed by discussion led by the agency Office Directors and the technical group leaders. The Board will deliberate and may vote on whether to approve or disapprove the Board's Strategic Plan. Following each of the Office Director presentations, and as described in the business meeting agenda, Board members may enter into discussions and move to amend the Work Plan presented by that Office Director. Upon conclusion of amendments and deliberations, the Board may vote on whether to approve or disapprove the individual Work Plans. The Board will also deliberate and may vote on whether to approve or disapprove the agency Staffing Plan. The Chairman will then provide closing remarks.

Public participation in the meeting is invited during the public comment period of the agenda. Individual oral comments may be limited by the time available, depending on the number of persons who wish to comment. Additional information and/or revisions to the meeting agenda may be posted on the Board's public Web site prior to the meeting. A transcript of the business meeting will be made available by the Board for viewing by the public on the Board's public Web site. The Board specifically reserves its right to further schedule and otherwise regulate the course of business of this meeting, to recess, reconvene, postpone, or adjourn the meeting, and otherwise exercise its rights under the Atomic Energy Act, the Government in the Sunshine Act and the Board's Operating Procedures.

Dated: September 8, 2017.
Sean Sullivan,
Chairman.

[FR Doc. 2017-19630 Filed 9-13-17; 4:15 pm]

BILLING CODE 3670-01-P